DEPARTMENT OF HOMELAND SECURITY

U.S. Customs and Border Protection

19 CFR part 101

[CBP Dec. 11-08]

Technical Amendment to List of CBP Preclearance Offices in Foreign Countries: Addition of Dublin, Ireland

AGENCY: U.S. Customs and Border Protection, DHS.

ACTION: Final rule; technical amendment.

SUMMARY: This document amends U.S. Customs and Border Protection (CBP) regulations to reflect that U.S. Customs and Border Protection (CBP) has added a preclearance station in Dublin, Ireland. CBP officers at preclearance stations conduct inspections and examinations to ensure compliance with U.S. customs, immigration, and agriculture laws, as well as other laws enforced by CBP at the U.S. border. Such inspections and examinations prior to arrival in the United States generally enable travelers to exit the domestic terminal or connect directly to a U.S. domestic flight without undergoing further CBP processing.

DATES: Effective Date: April 25, 2011.

FOR FURTHER INFORMATION CONTACT: Kathleen Conway, Office of Field Operations, Preclearance Operations, (202) 344-1759.

SUPPLEMENTARY INFORMATION:

Background

CBP preclearance operations have been in existence since 1952. Preclearance facilities are established through the cooperative efforts of CBP, foreign government representatives, and the local facility authorities and are evidenced with signed preclearance agreements. Each facility is staffed with CBP officers responsible for conducting inspections and examinations in connection with preclearing passengers, crew, and their goods bound for the United States. Generally, travelers who are inspected at a preclearance facility are permitted to arrive at a U.S. domestic facility and exit the U.S. domestic terminal upon arrival or connect directly to a U.S. domestic flight without further CBP processing. Preclearance facilities primarily serve to facilitate low risk travelers, relieve passenger congestion at federal inspection facilities in the United States, and enhance security in the air environment through the screening and inspection of travelers prior to their arrival in the United States. In Fiscal Year 2010, over 14 million aircraft travelers were processed at preclearance locations. This figure represents more than 16 percent of all commercial aircraft travelers cleared by CBP in FY 2010.

The Agreement Between the Government of the United States of America and the Government of Ireland on Air Transport Preclearance was signed on November 17, 2008. Preclearance operations began in Dublin, Ireland on January 19, 2011. The Dublin preclearance station is open for use by commercial flights.

Section 101.5 of the CBP regulations (19 CFR 101.5) sets forth a list of CBP preclearance offices in foreign countries. This document amends this section to add Dublin, Ireland to the list of preclearance offices.

Inapplicability of Public Notice and Delayed Effective Date Requirements

This amendment reflects the addition of a new CBP preclearance office that was established through a signed agreement between the United States and the Government of Ireland. Accordingly, pursuant to 5 U.S.C. 553(b)(B), notice and public procedure are unnecessary. For the same reason, pursuant to 5 U.S.C. 553(d)(3), a delayed effective date is not required.

The Regulatory Flexibility Act and Executive Order 12866

Because no notice of proposed rulemaking is required, the provisions of the Regulatory Flexibility Act (5 U.S.C. 601 et seq.) do not apply. This amendment does not meet the criteria for a “significant regulatory action” as specified in Executive Order 12866.

Signing Authority

This document is being issued in accordance with 19 CFR 0.2(a).

List of Subjects in 19 CFR Part 101

Customs duties and inspection, Customs ports of entry, Foreign trade statistics, Imports, Organization and functions (Government agencies), Shipments, Vessels.

Amendments to Regulations

For the reasons set forth above, Part 101 of the Code of Federal Regulations (19 CFR part 101), is amended as set forth below.

PART 101—GENERAL PROVISIONS

1. The general authority citation for part 101 and the specific authority citation for section 101.5 continue to read as follows:

Authority: 5 U.S.C. 301; 19 U.S.C. 2, 66, 1202 (General Note 3(i), Harmonized Tariff Schedule of the United States), 1623, 1624, 1646a.

* * * * *

Section 101.5 also issued under 19 U.S.C. 1629.

* * * * *

2. Revise § 101.5 to read as follows:

§ 101.5 CBP preclearance offices in foreign countries.

Listed below are the preclearance offices in foreign countries where CBP officers are located. A Director, Preclearance, located in the Office of Field Operations at CBP Headquarters, is the responsible CBP officer exercising supervisory control over all preclearance offices.

Country | CBP office
Aruba | Orangestad.
The Bahamas | Freeport. Nassau.
Bermuda | Kindley Field.
Canada | Calgary, Alberta.
| Edmonton, Alberta.
| Halifax, Nova Scotia.
| Montreal, Quebec.
| Ottawa, Ontario.
| Toronto, Ontario.
| Vancouver, British Columbia.
| Winnipeg, Manitoba.
Ireland | Dublin. Shannon.

Dated: February 11, 2011.
Alan D. Bersin,
Commissioner, U.S. Customs and Border Protection.

[FR Doc. 2011-9883 Filed 4-22-11; 8:45 am]

BILLING CODE 9111-14-P